DEPARTMENT OF DEFENSE

Office of the Secretary

Defense Science Board; Notice of Meeting

ACTION: Notice of Advisory Committee Meetings.

SUMMARY: The Defense Science Board (DSB) Task Force on Intelligence Needs for Homeland Defense Follow-On Initiative will meet in closed session on February 27-28, 2001; March 27-28 2001; and April 24-25, 2001, at Strategic Analysis, Inc., 3601 Wilson Boulevard, Arlington, VA 22201. This Task Force will explore the intelligence ramifications posed by a changing spectrum of threat regimes, including biological, chemical, information, nuclear, and radiological weapons.

The mission of the Defense Science Board is to advise the Secretary of Defense and the Under Secretary of Defense for Acquisition, Technology & Logistics on scientific and technical matters as they affect the perceived needs of the Department of Defense. At these meetings, the Defense Science Board Task Force will: consider the broad spectrum of intelligence issues from early threat detection to deterrence, through response including attribution; evaluate the collection and analysis of target-related information and weapon unique information; examine the role of HUMINT against these missions as well as the technology that the HUMINT collectors need to be equipped with; consider strategic indications and warning and tactical warning dissemination and how the two need to be merged; analyze methodology to correlate large data flows spatially temporally and functionally (Low SNR); and assess the robustness of today's intelligence apparatus for coping with these challenges.

In accordance with section 10(d) of the Federal Advisory Committee Act, Pub. L. No. 92-463, as amended (5 U.S.C. App. II), it has been determined that these Defense Science Board meetings, concern matters listed in 5 U.S.C. 552b(c)(1), and that accordingly these meetings will be closed to the public.

Due to critical mission requirements and scheduling conflicts, there is insufficient time to provide timely notice required by section 10(a)(2) of the Federal Advisory Committee Act and Subsection 101-6.1015(b) of the GSA Final Rule on Federal Advisory Committee Management, 41 CFR Part 101-6, which further requires publication at least 15 calendar days prior to the meeting of the Task Force.

Dated: February 14, 2001.
L.M. Bynum,
Alternate OSD Federal Register Liaison Officer, Department of Defense.

[FR Doc. 01-4333 Filed 2-21-01; 8:45 am]

BILLING CODE 5001-10-M